DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Logbook Family of Forms.

Form Number(s): NOAA Forms 88-30, 88-140.

OMB Approval Number: 0648-0212.

Type of Request: Regular submission.

Burden Hours: 5,937.

Number of Respondents: 4,596.

Average Hours Per Response: 6 minutes.

Needs and Uses: Fishing vessels permitted to participate in Federally-permitted fisheries in the Northeast are required to submit logbooks containing catch and effort information about their fishing trips. The participants in the herring, tilefish and red crab fisheries are also required to make reports on their catch through an Interactive Voice Response (IVR) system. In addition, permitted vessels that catch halibut are asked to voluntarily provide additional information on the estimated size of the fish and the time of day caught. The information submitted is needed for the management of the fisheries. This action seeks to renew Paperwork Reduction Act (PRA) clearance for this collection.

Affected Public: Business or other for-profit organizations; individuals or households; State, Local or Tribal Government.

Frequency: Monthly and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 15, 2005.
Gwellnar Banks,
Management Analyst, Office of the Chief Information Officer.

[FR Doc. 05-14326 Filed 7-20-05; 8:45 am]

BILLING CODE 3510-22-P